NUCLEAR REGULATORY COMMISSION

Office of New Reactors; Supplement to Interim Staff Guidance; Limited Work Authorizations Solicitation of Public Comment

AGENCY: Nuclear Regulatory Commission.

ACTION: Solicitation of public comment.

SUMMARY: The NRC is issuing a supplement to its Proposed Interim Staff Guidance (ISG) COL/ESP-ISG-004 for use and comment. This supplemental guidance would be added, along with the resolution of other issues identified in comments received from the public, to COL/ESP-ISG-004 to provide clarifications and examples related to the definition of construction. This additional guidance is intended to clarify the delineation of preconstruction activities and those activities that require prior NRC approval (i.e., construction activities). Upon receiving public comments, the NRC staff will evaluate and disposition the comments, as appropriate. Once the NRC staff completes the COL/ESP-ISG, including this supplemental information, the staff will issue it for use. The NRC staff will also incorporate the approved COL/ESP-ISG-004 into the next revisions of the Regulatory Guide 1.206, “Combined License Applications for Nuclear Power Plants,” and related guidance documents.

DATES: Comments must be filed no later than 30 days from the date of publication of this notice in the Federal Register. Comments received after this date will be considered, if it is practical to do so, but the NRC staff is able to ensure consideration only for comments received on or before this date.

ADDRESSES: Comments may be submitted to: Chief, Rulemaking, Directives, and Editing Branch, Office of Administration, U.S. Nuclear Regulatory Commission, Washington, DC, 20555-0001. Comments should be delivered to: 11545 Rockville Pike, Rockville, Maryland, Room T-6D59, between 7:30 a.m. and 4:15 p.m. on Federal workdays. Persons may also provide comments via e-mail to nrcrep.resource@nrc.gov. The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr@nrc.gov.

FOR FURTHER INFORMATION CONTACT: Mr. Jerry N. Wilson, Division of New Reactor Licensing, Office of the New Reactors, U.S. Nuclear Regulatory Commission, Washington, DC, 20555-0001; telephone 301-415-3145 or e-mail at Jerry.Wilson@nrc.gov.

SUPPLEMENTARY INFORMATION: The NRC posts its issued staff guidance, including the subject supplement to draft COL/ESP-ISG-004, on the NRC external Web page (http://www.nrc.gov/reading-rm/doc-collections/isg/).

The NRC staff is issuing this notice to solicit public comments on the supplement to proposed COL/ESP-ISG-004. After the NRC staff considers any public comments, it will make a determination regarding the proposed COL/ESP-ISG-004.

Dated at Rockville, Maryland, this 19th day of August, 2008.
For the Nuclear Regulatory Commission.
David B. Matthews,
Division Director, Division of New Reactor Licensing, Office of New Reactors.

[FR Doc. E8-19830 Filed 8-26-08; 8:45 am]

BILLING CODE 7590-01-P